DEPARTMENT OF THE TREASURY

United States Mint

Establish Pricing for 2018 United States Mint American Innovation™ Products

AGENCY: United States Mint, Department of the Treasury.

ACTION: Notice.

SUMMARY: The United States Mint is announcing the pricing for 2018 American Innovation coin products. These prices are listed in the table below.

Product | 2018 Retail price
2018 American Innovation $1 25-Coin Roll-P | $32.95
2018 American Innovation $1 25-Coin Roll-D | 32.95
2018 American Innovation $1 100-Coin Bag-P | 111.95
2018 American Innovation $1 100-Coin Bag-D | 111.95
2018 American Innovation $1 Proof Coin | 6.95

FOR FURTHER INFORMATION CONTACT: Katrina McDow; Product Manager; Numismatic and Bullion; United States Mint; 801 9th Street NW; Washington, DC 20220; or call 202-354-8495.

Authority: Public Law 115-197

Dated: December 7, 2018.
David J. Ryder,
Director, United States Mint.

[FR Doc. 2018-27069 Filed 12-13-18; 8:45 am]

BILLING CODE P